DEPARTMENT OF TRANSPORTATION

Federal Aviation Administration

14 CFR Part 39

[Docket No. FAA-2011-0597; Directorate Identifier 2011-CE-019-AD]

RIN 2120-AA64

Airworthiness Directives; Viking Air Limited (Type Certificate No. A-815 Formerly Held by Bombardier Inc. and de Havilland, Inc.) Model DHC-3 Airplanes

AGENCY: Federal Aviation Administration (FAA), DOT.

ACTION: Notice of proposed rulemaking (NPRM).

SUMMARY: We propose to supersede an existing airworthiness directive (AD) that applies to the products listed above. The existing AD currently requires repetitively inspecting the elevator control tabs for discrepancies and, if any discrepancies are found, taking necessary corrective actions to bring all discrepancies within acceptable tolerances. The existing AD also requires reporting certain inspection results to the FAA. Since we issued that AD, we determined that we inadvertently omitted certain airplanes from the Applicability section. This proposed AD would retain the actions currently required in AD 2011-05-02 and remove the Supplemental Type Certificate (STC) SA01059SE condition in the Applicability section. We are proposing this AD to add new repetitive inspections of the elevator control tabs. If these inspections are not done, excessive free-play in the elevator control tabs could develop. This condition could lead to loss of tab control linkage and severe elevator flutter. Such elevator flutter could lead to possible loss of control.

DATES: We must receive comments on this proposed AD by July 25, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For information about the revisions to the FAA-approved maintenance/inspection program identified in this AD, contact Viking Air Ltd., 9574 Hampden Road, Sidney, BC Canada V8L 5V5; telephone: (800) 663-8444; Internet: http://www.vikingair.com. You may review copies of the referenced revisions at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: George Duckett, Aerospace Engineer, New York Aircraft Certification Office, FAA, 1600 Stewart Avenue, Suite 410, Westbury, New York 11590; telephone: (516) 228-7325; fax: (516) 794-5531; e-mail: george.duckett@faa.gov.

SUPPLEMENTARY INFORMATION:

Comments Invited

We invite you to send any written relevant data, views, or arguments about this proposed AD. Send your comments to an address listed under the ADDRESSES section. Include “Docket No. FAA-2011-0597; Directorate Identifier 2011-CE-019-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On February 15, 2011, we issued AD 2011-05-02, Amendment 39-16611 (76 FR 10220, February 24, 2011), for certain Viking Air Limited (Type Certificate No. A-815 formerly held by Bombardier Inc. and de Havilland, Inc.) Model DHC-3 airplanes. That AD requires repetitively inspecting the elevator control tabs for discrepancies and, if any discrepancies are found, taking necessary corrective actions to bring all discrepancies within acceptable tolerances. That AD also requires reporting certain inspection results to the FAA. That AD resulted from an evaluation of revisions to the manufacturer's maintenance manual that adds new repetitive inspections of the elevator control tabs. To require compliance with these inspections for U.S. owners and operators we mandated the inspections through the rulemaking process. We issued that AD to add new repetitive inspections of the elevator control tabs. If these inspections are not done, excessive free-play in the elevator control tabs could develop. This condition could lead to loss of tab control linkage and severe elevator flutter. Such elevator flutter could lead to possible loss of control.

Actions Since Existing AD Was Issued

Since we issued AD 2011-05-02, we determined that we inadvertently omitted certain airplanes from the Applicability section. The current Applicability section includes Model DHC-3 airplanes, all serial numbers, that do not have the new elevator servo tab and redundant control linkage installed according to Supplemental Type Certificate (STC) No. SA01059SE and that are certificated in any category.

The actions currently required in AD 2011-05-02 were intended for all Model DHC-3 airplanes regardless if the installation of the redundant linkage was done according to Supplemental Type Certificate (STC) SA01059SE.

FAA's Determination

We are proposing this AD because we evaluated all the relevant information and determined the unsafe condition described previously is likely to exist or develop in other products of the same type design.

Proposed AD Requirements

This proposed AD would retain all of the requirements of AD 2011-05-02. This proposed AD would add airplanes to the applicability statement of the existing AD by removing the STC SA01059SE condition.

Interim Action

We are continuing to evaluate the cause of the unsafe condition identified in this proposed AD to enable us to obtain better insight into the nature, cause, and extent of excessive free-play in the elevator control tabs. Based on this evaluation, we may consider further rulemaking.

Costs of Compliance

We estimate that this proposed AD affects 65 airplanes of U.S. registry.

We estimate the following costs to comply with this proposed AD:

Estimated Costs
Action | Labor cost | Parts cost | Cost per product | Cost on U.S. operators
Inspection | 1 work-hour × $85 per hour = $85 per inspection cycle | Not applicable | $85 per inspection cycle | $5,525 per inspection cycle.

We estimate the following costs to do any necessary follow-on actions that would be required based on the results of the proposed inspection. We have no way of determining the number of airplanes that may need this repair/replacement:

On-Condition Costs
Action | Labor cost | Parts cost | Cost per product
Minimum repair | 1 work-hour × $85 per hour = $85 | $50 | $135
Moderate repair | 3 work-hours × $85 per hour = $255 | 150 | 405
Maximum repair | 6 work-hours × $85 per hour = $510 | 450 | 960

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) AD 2011-05-02, Amendment 39-16611 (76 FR 10220, February 24, 2011), and adding the following new AD:

Viking Air Limited (Type Certificate No. A-815 Formerly Held by Bombardier Inc. and de Havilland, Inc.): Docket No. FAA-2011-0597; Directorate Identifier 2011-CE-019-AD.

Comments Due Date

(a) The FAA must receive comments on this AD action by July 25, 2011.

Affected ADs

(b) This AD supersedes AD 2011-05-02, Amendment 39-16611.

Applicability

(c) This AD applies to Viking Air Limited (type certificate No. A-815 formerly held by Bombardier Inc. and de Havilland, Inc.) Model DHC-3 airplanes, all serial numbers, that are certificated in any category.

Subject

(d) Joint Aircraft System Component (JASC)/Air Transport Association (ATA) of America Code 27, Flight Controls.

Unsafe Condition

(e) This AD results from an evaluation of revisions to the manufacturer's maintenance manual that adds new repetitive inspections to the elevator control tabs. To require compliance with these inspections for U.S. owners and operators we are mandating these inspections through the rulemaking process. We are issuing this AD to add new repetitive inspections of the elevator control tabs. If these inspections are not done, excessive free-play in the elevator control tabs could develop. This condition could lead to loss of tab control linkage and severe elevator flutter. Such elevator flutter could lead to possible loss of control.

Compliance

(f) Comply with this AD within the compliance times specified, unless already done.

Actions | Compliance | Procedures
(1) Inspect the elevator control tabs for discrepancies | (i) For airplanes previously affected by AD 2011-05-02: Initially within the next 50 hours time-in-service (TIS) after March 31, 2011 (the effective date retained from AD 2011-05-02) | Following Viking DHC-3 Otter Maintenance Manual Temporary Revisions No. 18, No. 19, and No. 20, all dated December 5, 2008.
| (ii) For airplanes not previously affected by AD 2011-05-02: Initially within the next 50 hours time-in-service (TIS) after the effective date of this AD
| (iii) For all affected airplanes: Repetitively thereafter inspect at intervals not to exceed 100 hours TIS
(2) If any discrepancies are found during any inspection required in paragraph (f)(1) of this AD, take necessary corrective actions to bring all discrepancies within acceptable tolerances | For all affected airplanes: Before further flight after any inspection required in paragraph (f)(1) of this AD in which discrepancies are found | Following Viking DHC-3 Otter Maintenance Manual Temporary Revisions No. 18, No. 19, and No. 20, all dated December 5, 2008.
(3) If, during any inspection required in paragraph (f)(1) of this AD, the total maximum free play of the elevator servo tab and trim tab relative to the elevator exceeds 1.0 degree (this is equal to a maximum displacement of 0.070″ at the trailing edge), report the results of the inspection to the FAA | For all affected airplanes: Within 30 days after the inspection or within the next 10 days after the effective date of this AD, whichever occurs later. For airplanes previously affected by AD 2011-05-02: We are collecting these inspection results for 24 months after March 31, 2011 (the effective date retained from AD 2011-05-02). For airplanes not previously affected by AD 2011-05-02: We are collecting these inspection results for 24 months after the effective date of this AD. The reporting requirements of this AD are no longer required after that time | Use the form (Figure 1 of this AD) and submit it to FAA, Small Airplane Directorate, Attn: Jim Rutherford, 901 Locust, Room 301, Kansas City, Missouri 64106.

Docket No. FAA-2011-0597
Airplane Serial Number:
Time-in-Service (TIS) of Airplane:
Airplane Engine Type/Model Number/Series Number:
TIS of Airplane When Current Engine was Installed:
Date When Current Engine was Installed:
STC Number that Installed Current Engine (if applicable):
Out of Tolerance Recording:
Corrective Action Taken:
Any Additional Information (Optional):
Name:
Telephone and/or E-mail Address:
Date:
Send report to: Jim Rutherford, Aerospace Engineer, FAA, Small Airplane
Directorate, 901 Locust, Room 301, Kansas City, Missouri 64106; facsimile:
(816) 329-4090; e-mail: jim.rutherford@faa.gov.
Figure 1

Paperwork Reduction Act Burden Statement

(g) A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Alternative Methods of Compliance (AMOCs)

(h)(1) The Manager, New York Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(i) For more information about this AD, contact George Duckett, Aerospace Engineer, New York ACO, FAA, 1600 Stewart Avenue, Suite 410, Westbury, New York 11590; telephone: (516) 228-7325; fax: (516) 794-5531; e-mail: george.duckett@faa.gov.

(j) To get information about the revisions to the maintenance program identified in this proposed AD, contact Viking Air Ltd., 9574 Hampden Road, Sidney, BC Canada V8L 5V5; telephone: (800) 663-8444; Internet: http://www.vikingair.com. You may review copies of the referenced revision at the FAA, Small Airplane Directorate, 901 Locust, Kansas City, Missouri 64106. For information on the availability of this material at the FAA, call 816-329-4148.

Issued in Kansas City, Missouri, on June 6, 2011.
John Colomy,
Acting Manager, Small Airplane Directorate, Aircraft Certification Service.

[FR Doc. 2011-14396 Filed 6-9-11; 8:45 am]

BILLING CODE 4910-13-P